DEPARTMENT OF COMMERCE

National Oceanic and Atmospheric Administration

[RTID 0648-XE657]

Pacific Fishery Management Council; Public Meeting

AGENCY: National Marine Fisheries Service (NMFS), National Oceanic and Atmospheric Administration (NOAA), Commerce.

ACTION: Notice of public online meeting.

SUMMARY: The Pacific Fishery Management Council's (Pacific Council) Ad-Hoc Klamath River Fall Chinook Workgroup (KRWG) will hold a two-day online meeting.

DATES: The online meeting will be held Wednesday, April 30, 2025 and Thursday, May 1, 2025, from 9 a.m. until 4 p.m., Pacific Daylight Time, or until business for the day concludes.

ADDRESSES: This meeting will be held online. Specific meeting information, including directions on how to join and system requirements will be provided in the meeting announcement on the Pacific Council's website (see www.pcouncil.org). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Angela Forristall, Staff Officer, Pacific Council; telephone: (503) 820-2419.

SUPPLEMENTARY INFORMATION: The primary purpose of the meeting is to address guidance received from the Pacific Council at their November 2024 meeting and to develop their report for the June 2025 Pacific Council meeting. The KRWG may discuss and further develop interim management measures, or a management framework, intended to address the response of Klamath River fall Chinook to the dynamic nature of the Klamath River environment and the available habitat immediately following dam removal, and post-dam removal until the natural environment is stabilized and the salmon population is more predictable. Additional discussions may include, but are not limited to, future meetings, workload planning, and upcoming items on the upcoming Pacific Council meeting agenda.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: March 12, 2025.
Rey Israel Marquez,
Acting Deputy Director, Office of Sustainable Fisheries, National Marine Fisheries Service.

[FR Doc. 2025-04278 Filed 3-14-25; 8:45 am]

BILLING CODE 3510-22-P